DEPARTMENT OF ENERGY

Floodplain and Wetlands Statement of Findings for the Floodplain Strip Adjacent to the Boeing Property in Roane County, Tennessee

AGENCY: Department of Energy (DOE).

ACTION: Floodplain and wetlands statement of findings.

SUMMARY: This is a Floodplain and Wetlands Statement of Findings for the Floodplain Strip Adjacent to the Boeing Property in Roane County, Tennessee, in accordance with 10 CFR 1022, Compliance with Floodplain/Wetlands Environmental Review Requirements. A floodplains and wetlands assessment was conducted and is included in an Environmental Assessment (EA) that evaluated the potential impacts of transfer from DOE ownership. The floodplains and wetlands assessment describes the possible effects, alternatives, and measures designed to avoid or minimize potential harm to floodplains and wetlands or their flood storage potential. DOE will allow 15 days of public review after publication of the Statement of Findings before implementation of the Proposed Action.

FOR FURTHER INFORMATION, CONTACT: Katy Kates, Realty Officer, U.S. Department of Energy, Oak Ridge Operations Office, P.O. Box 2001, Oak Ridge, Tennessee 37831. Ms. Kates can also be reached at 865-576-0977 or facsimile 865-576-9204.

For Further Information on General DOE Floodplain/Wetlands Environmental Review Requirements, Contact: Carol M. Borgstrom, Director, Office of NEPA Policy and Assistance, EH-42, U.S. Department of Energy, 1000 Independence Avenue, SW, Washington, D.C. 20585. Ms. Borgstrom can also be reached at 202-586-4600 or by leaving a message at 1-800-472-2756.

SUPPLEMENTARY INFORMATION: A notice of Floodplain and Wetlands Involvement for the Floodplain Strip Adjacent to the Boeing Property was published in the Federal Register on May 3, 2000 (Volume 65, Number 86) and subsequently a floodplains and wetlands assessment was prepared and is included in an EA for divestiture of the Floodplain Strip from DOE ownership. The EA was prepared as part of National Environmental Policy Act (NEPA) requirements. The floodplain and wetlands assessment documented the floodplain and wetland communities on the Floodplain Strip, and assessed the potential impacts to floodplains and wetlands associated with conveyance of the 182-acre parcel. Alternatives considered include: (1) Conveyance of the Floodplain Strip to the abutting landowner for unrestricted use (the Preferred Alternative), (2) conveyance of the property to the Tennessee Valley Authority (TVA), (3) conveyance of the property to the City of Oak Ridge or Roane County, (4) DOE retention of ownership but with DOE granting easements to the abutting landowner, and (5) No Action. Any land conveyance would include land from the ordinary low water mark inward to the Boeing Property. The floodplains and wetlands assessment identified 69 acres of wetlands on the Floodplain Strip.

Some minor, short-term impacts could occur due to limited, proposed construction on the Floodplain Strip and potential development on the adjacent Boeing Property, which would primarily be associated with runoff and erosion of soil particles. Based on the limited planned improvements in the Floodplain Strip and types of subsequent activities that would occur under any alternative evaluated, DOE does not believe there would be any hazards to the public or property from flooding, nor would the activities jeopardize the wetlands' survival, quality, and natural beneficial values. The limited improvements planned for the property would be small in scale and by nature there would be no habitable structures within the floodplain or wetlands that could present a hazard or flooding risk. Additionally, any proposed structure in the floodplain (e.g., boat docks) would be subject to TVA's section 26(a) review. Any construction within jurisdictional wetlands as identified in the floodplains and wetlands assessment must comply with the Department of Army Wetlands Construction Restrictions contained in 33 CFR, sections 320 through 330, as amended, and any other applicable Federal, State, or local wetlands regulations.

Issued in Oak Ridge, Tennessee, on November 27, 2000.
James L. Elmore,
Alternate National Environmental, Policy Act Compliance Officer.

[FR Doc. 00-30766 Filed 12-1-00; 8:45 am]

BILLING CODE 6450-01-U